DEPARTMENT OF HOMELAND SECURITY

[DHS Docket No. ICEB-2021-0002]

RIN 1653-ZA16

Employment Authorization for Syrian F-1 Nonimmigrant Students Experiencing Severe Economic Hardship as a Direct Result of Civil Unrest in Syria Since March 2011

AGENCY: U.S. Immigration and Customs Enforcement (ICE), Department of Homeland Security (DHS).

SUMMARY: This notice announces that the Secretary of Homeland Security (Secretary) has suspended certain regulatory requirements for F-1 nonimmigrant students whose country of citizenship is Syria (regardless of country of birth) and who are experiencing severe economic hardship as a direct result of the civil unrest in Syria since March 2011. The Secretary is taking action to provide relief to Syrian citizens who are lawful F-1 nonimmigrant students so the students may request employment authorization, work an increased number of hours while school is in session, and reduce their course load while continuing to maintain F-1 nonimmigrant student status. DHS will deem an F-1 nonimmigrant student who receives employment authorization by means of this notice to be engaged in a “full course of study” for the duration of the employment authorization, if the nonimmigrant student satisfies the minimum course load requirement described in this notice.

DATES: This F-1 Notice is effective April 22, 2021 and will remain in effect until September 30, 2022.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at http://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Syria (regardless of country of birth), who are present in the United States in lawful F-1 nonimmigrant student status as of April 22, 2021, and who are experiencing severe economic hardship as a direct result of the civil unrest in Syria since March 2011. The original notice, which applied to F-1 nonimmigrant students who met certain criteria, including having been lawfully present in the United States in F-1 nonimmigrant status on April 3, 2012, was effective from April 3, 2012, until October 3, 2013. See 77 FR 20038 (April 3, 2012). A subsequent notice provided for an 18-month extension from October 3, 2013, through March 31, 2015. See 78 FR 36211 (June 17, 2013). A third notice provided another 18-month extension from March 31, 2015, through September 30, 2016. See 80 FR 232 (January 5, 2015). A fourth notice provided another 18-month extension from September 30, 2016, through March 31, 2018, and expanded the applicability of such suspension to Syrian F-1 nonimmigrant students who were in lawful F-1 nonimmigrant student status between April 3, 2012 and September 9, 2016. See 81 FR 62520 (September 9, 2016). A fifth notice provided another 18-month extension from March 31, 2018, until September 30, 2019. See 83 FR 11553 (March 15, 2018). Effective with this publication, suspension of the employment limitations is available through September 30, 2022, for those who are in lawful F-1 nonimmigrant status as of April 22, 2021. DHS will deem an F-1 nonimmigrant student granted employment authorization through the notice to be engaged in a “full course of study,” for the duration of the employment authorization if the student satisfies the minimum course load set forth in this notice.¹ See 8 CFR 214.2(f)(6)(i)(F).

¹ Because the suspension of requirements applies throughout an academic term during which the suspension is in effect, DHS considers an F-1 nonimmigrant student who engages in a reduced course load or employment (or both) after this notice is issued to be engaging in a “full course of study,” see 8 CFR 214.2(f)(6), and eligible for employment authorization, through the end of any academic term for which such student is matriculated as of September 30, 2022, provided the student satisfies the minimum course load requirement in this notice. DHS also considers students who engage in online coursework pursuant to ICE coronavirus disease 2019 (COVID-19) guidance for nonimmigrant students to be in compliance with regulations while such guidance remains in effect. See ICE Guidance and Frequently Asked Questions on COVID-19, available at https://www.ice.gov/coronavirus [last visited Mar. 2021].

Who is covered by this notice?

This notice applies exclusively to F-1 nonimmigrant students who meet all of the following conditions:

(1) Are citizens of Syria, regardless of country of birth;

(2) Were lawfully present in the United States in an F-1 nonimmigrant status on April 22, 2021, under section 101(a)(15)(F)(i) of the Immigration and Nationality Act (INA), 8 U.S.C. 1101(a)(15)(F)(i);

(3) Are enrolled in an academic institution that is Student and Exchange Visitor Program (SEVP)-certified for enrollment of F-1 nonimmigrant students,

(4) Are currently maintaining F-1 nonimmigrant status, and

(5) Are experiencing severe economic hardship as a direct result of the ongoing civil unrest in Syria since March 2011.

This notice applies to F-1 nonimmigrant students engaged in private kindergarten through grade 12, public school grades 9 through 12, and undergraduate and graduate education. F-1 nonimmigrant students covered by this notice who transfer to other SEVP-certified academic institutions remain eligible for the relief provided by means of this notice.

Why is DHS taking this action?

As a result of the ongoing armed conflict and extraordinary and temporary conditions in Syria, the Secretary has extended and redesignated Syria for TPS for 18 months, from March 31, 2021 through September 30, 2022. See 86 FR 14946. Previously DHS took action to provide temporary relief to F-1 nonimmigrant students whose country of citizenship is Syria and who experienced severe economic hardship because of the civil unrest in Syria. See 77 FR 20038 (April 3, 2012). That action enabled these F-1 nonimmigrant students to obtain employment authorization, work an increased number of hours while the academic institution was in session, and reduce the students' course loads, while continuing to maintain F-1 nonimmigrant student status. DHS extended the temporary relief to these Syrian F-1 nonimmigrant students until September 30, 2019 through further notices issued in June 2013, January 2015, September 2016, and again in March 2018. In each of those notices, DHS acknowledged that the civil unrest in Syria continued to affect Syria's citizens, with many people still displaced as a result. Recognizing that the civil conflict in Syria continued well beyond the October 3, 2013 expiration date of the original notice, DHS's September 9, 2016 notice extended the application of the temporary relief in the original April 3, 2012 notice to those Syrian F-1 nonimmigrant students who were in lawful F-1 nonimmigrant status between April 3, 2012, and September 9, 2016.

DHS has reviewed conditions in Syria and determined that making employment authorization available for eligible nonimmigrant students is again warranted due to the ongoing armed conflict and extraordinary temporary conditions in Syria. The conflict in Syria continues to affect the physical and economic security of its citizens. There are more than 13.4 million displaced Syrians in the region,² of which 6.6 million are Internally Displaced Persons (IDPs) ³ and 5.6 million are United Nations High Commissioner for Refugees (UNHCR)-registered refugees.⁴ Of the country's 23 million people, 11.1 million require humanitarian assistance.⁵ Approximately 1.5 million Syrians were newly displaced by hostilities in 2020.⁶ Although the UNHCR reported that 371,600 Syrian IDPs chose to return to their places of origin in 2020 ⁷ and another 21,618 refugees returned to Syria in 2020,⁸ the UNHCR assessed that current conditions in Syria make it difficult for civilians to return safely anywhere in Syria.⁹

² United Nations High Commissioner for Refugees (UNHCR), Refugee Statistics, available at https://www.unrefugees.org/refugee-facts/statistics/ [last visited Feb. 2021].

³ UNHCR Refugee Data Finder, December 2020, available at https://www.unhcr.org/refugee-statistics/#:~:text=An%20estimated%2030%20%E2%80%93%2034%20million,age%20(end%2D2019).&text=Developing%20countries%20host%2086%20per,per%20cent%20of%20the%20total [last visited Feb. 2021].

⁴ UNHCR, Operational Update Syria, October 2020, available at https://reporting.unhcr.org/sites/default/files/UNHCR%20Syria%20Operational%20Update%20October%202020.pdf [last visited Feb. 2021].

⁵ Id.

⁶ UNHCR Operational Update Syria, January 2020, available at https://www.unhcr.org/sy/wp-content/uploads/sites/3/2020/02/UNHCR-Syrias-Operational-Update-2020.pdf [last visited Feb. 2021].

⁷ UNHCR, Operational Update Syria. October 2020, available at https://reporting.unhcr.org/sites/default/files/UNHCR%20Syria%20Operational%20Update%20October%202020.pdf [last visited Feb. 2021].

⁸ Id.

⁹ Id.

The last publicly documented chemical weapons attack by the Syrian government was an attack using chlorine on May 19, 2019 in Syria's Latakia province that injured several civilians, and in October 2020, United States Ambassador to the United Nations (UN) Kelly Craft stated that Syria had breached its obligations under the Chemical Weapons Convention and a UN Security Council resolution to destroy its chemical weapons program.¹⁰

¹⁰ Detsch, Jack, Lynch, Colum, Gramer, Robbie. (2020). “Syria Is Still Trying to Use Chemical Weapons”, Foreign Policy. October 6, 2020, available at https://foreignpolicy.com/2020/10/06/syria-chemical-weapons-trump-assad-russia-united-nations/ [last visited Mar. 2021].

According to the Department of State (DOS), the regime also frequently employed cluster munitions and barrel bombs. Per DOS, the Syrian Network for Human Rights ¹¹ documented at least 3,420 barrel bombs dropped by Russian and Syrian helicopters and planes on Idlib, Syria, between April 2019 and September 2019, often striking civilians and civilian infrastructure, including homes, medical facilities, and schools. In the last weeks of December 2020, the regime's forces dropped barrel bombs in Maaret al-Norman, in northwest Syria, resulting in the deaths of a child and a humanitarian volunteer.¹²

¹¹ The Syrian Network for Human Rights (“an independent, neutral, non-governmental, non-profit human rights organization” which documents human rights violations in Syria), available at https://sn4hr.org/ [last visited Feb. 2021].

¹² United States Department of State 2019 Country Reports on Human Rights Practices: Syria, available at https://www.state.gov/wp-content/uploads/2020/03/SYRIA-2019-HUMAN-RIGHTS-REPORT.pdf [last visited Mar. 2021].

DOS reported that in late 2019, regime and pro-regime forces reportedly struck civilians in hospitals, residential areas, schools, and settlements for IDPs and refugee camps; these attacks included bombardment with barrel bombs in addition to the use of chemical weapons.¹³ These forces used the massacre of civilians, as well as their forced displacement, rape, starvation, and protracted sieges that occasionally forced local surrenders, as military tactics.¹⁴

¹³ Id.

¹⁴ Id.

According to the UN Independent International Commission of Inquiry on the Syrian Arab Republic, Syrian Government forces carried out air and ground attacks in Syria which decimated civilian infrastructure and depopulated towns and villages, killing hundreds of women, men and children between November of 2019 and June of 2020.¹⁵ In a press release related to a report on conditions in Syria, Commission Chair Paulo Pinheiro stated that, “Children were shelled at school, parents were shelled at the market, patients were shelled at the hospital . . . entire families were bombarded even while fleeing. What is clear from the military campaign is that pro-government forces and UN-designated terrorists flagrantly violated the laws of war and the rights of Syrian civilians.” ¹⁶

¹⁵ UN Human Rights Council, 44 Session, Report of the Independent International Commission of Inquiry on the Syrian Arab Republic (A/HRC/44/61) (July 2020) available at https://reliefweb.int/sites/reliefweb.int/files/resources/A_HRC_44_61_AdvanceUneditedVersionFINAL_0.pdf [last visited Mar. 2021].

¹⁶ United Nations Human Rights Council (2020) “Rampant Human Rights Violations and War crimes as War-torn Idlib Faces the Pandemic UN Syria Commission of Inquiry report”, available at https://www.ohchr.org/EN/HRBodies/HRC/Pages/NewsDetail.aspx?NewsID=26044&LangID=E [last visited Mar. 2021].

Syria's economy has significantly deteriorated since the outbreak of conflict in 2011, declining by more than 70% from 2010 to 2017,¹⁷ the most recent year for which confirmed economic data is available. Over eight in ten Syrians live below the poverty line.¹⁸ Syria ranks last in the CIA World Factbook's survey of 224 countries in real annual Gross Domestic Product (GDP) growth rate, and 199th out of 228 countries in real GDP per capita.¹⁹

¹⁷ Central Intelligence Agency (2021) Syria-In The World Factbook, available at https://www.cia.gov/the-world-factbook/countries/syria/ [last visited Feb. 2021].

¹⁸ Id.

¹⁹ Id.

Civilian health needs remain critical in Syria due to the ongoing conflict, and access to medical care is limited. Hundreds of thousands of civilians have suffered injuries, of which 57% are expected to sustain permanent impairment and require lifelong medical attention.²⁰ In 2019, 50% of Syrian hospitals and 25% of healthcare facilities are estimated to be functional.²¹ From March 2011 through February 2020, Physicians for Human Rights, estimated 595 attacks impacting medical facilities. Physicians for Human Rights concluded that ninety percent of the attacks (536) were perpetrated by the Syrian government and allied forces.²² Additionally, during this time 923 medical personnel were killed.²³ Mass displacement has contributed to a reduction of up to 50% of qualified medical personnel in some areas, further compromising the provision of quality medical assistance.²⁴

²⁰ UNHCR, Operational Update Syria. October 2020, available at https://reporting.unhcr.org/sites/default/files/UNHCR%20Syria%20Operational%20Update%20October%202020.pdf [last visited Feb. 2021].

²¹ World Health Organization (WHO), Whole of Syria consolidated Health Resources and Services Availability Monitoring System (HeRAMS), Q4 2019, available at https://www.who.int/publications/m/item/herams-2019-annual-report [last visited Feb. 2021].

²² Physicians for Human Rights, “Physicians for Human Rights' Findings of Attacks on Health Care in Syria”; findings as of February 2020, available at http://syriamap.phr.org/#/en/findings [last visited Feb. 2021].

²³ Id.

²⁴ UN Office for the Coordination of Humanitarian Affairs, 2019 Humanitarian Needs Overview: Syrian Arab Republic (March 2019), available at https://reliefweb.int/sites/reliefweb.int/files/resources/2019_Syr_HNO_Full.pdf [last visited Mar. 2021].

As of December 2020, 11.1 million people in Syria required humanitarian assistance, and 9.3 million people continue to face life-threatening food insecurity.²⁵ In 2020, the number of food insecure people increased by 22%, from 6.5 million in 2019 to 8 million people in 2020.²⁶ Given the conditions in Syria, affected nonimmigrant students whose primary means of financial support come from Syria may need to be exempt from the normal nonimmigrant student employment requirements to be able to continue their studies in the United States and meet basic living expenses.

²⁵ UN Office for the Coordination of Humanitarian Affairs, Syrian Arab Republic: 2020 Humanitarian Response Plan (December 2020), available at https://reliefweb.int/report/syrian-arab-republic/syrian-arab-republic-2020-humanitarian-response-plan-december-2020 [last visited Feb. 2021].

²⁶ Food Security Information Network—2020 Global Report on Food Crises, available at https://www.fsinplatform.org/sites/default/files/resources/files/GRFC_2020_ONLINE_200420.pdf [last visited Feb. 2021].

The United States is committed to continuing to assist the people of Syria. ICE records show that, as of February 4, 2021, approximately 254 Syrian F-1 nonimmigrants students were physically present in the United States and enrolled in SEVP-certified academic institutions. DHS is therefore making employment authorization available for F-1 nonimmigrant students whose country of citizenship is Syria (regardless of country of birth), who are in lawful F-1 nonimmigrant student status as of April 22, 2021, who are currently maintaining F-1 status, and who are continuing to experience severe economic hardship as a direct result of the civil unrest since March 2011.

What is the minimum course load requirement set forth in this notice?

Undergraduate F-1 nonimmigrant students who receive on-campus or off-campus employment authorization under this notice must remain registered for a minimum of six semester or quarter hours of instruction per academic term.²⁷ A graduate-level F-1 nonimmigrant student who receives on-campus or off-campus employment authorization under this notice must remain registered for a minimum of three semester or quarter hours of instruction per academic term. See 8 CFR 214.2(f)(5)(v).

²⁷ Undergraduate F-1 nonimmigrant students enrolled in a term of different duration must register for at least one half of the credit hours normally required under a “full course of study.” See 8 CFR 214.2(f)(6)(i)(B).

In addition, an F-1 nonimmigrant student (either undergraduate or graduate) granted on-campus or off-campus employment authorization under this notice may count up to the equivalent of one class or three credits per session, term, semester, trimester, or quarter of online or distance education toward satisfying this minimum course load requirement, unless the course of study is in a language study program.²⁸ See 8 CFR 214.2(f)(6)(i)(G). An F-1 nonimmigrant student attending an approved private elementary or middle school or public or private academic high school must maintain “class attendance for no less than the minimum number of hours a week prescribed by the school for normal progress toward graduation,” as required under 8 CFR 214.2(f)(6)(i)(E).

²⁸ DHS also considers students who engage in online coursework pursuant to ICE coronavirus disease 2019 (COVID-19) guidance for nonimmigrant students to be in compliance with regulations while such guidance remains in effect. See ICE Guidance and Frequently Asked Questions on COVID-19, available at https://www.ice.gov/coronavirus [last visited Mar. 2021].

May an eligible F-1 nonimmigrant student who already has on-campus or off-campus employment authorization benefit from the suspension of regulatory requirements under this notice?

Yes. A Syrian F-1 nonimmigrant student who already has on-campus or off-campus employment authorization and is otherwise eligible may benefit under this notice, which suspends regulatory requirements relating to the minimum course load requirement under 8 CFR 214.2(f)(6)(i)(A) and (B) and the employment eligibility requirements under 8 CFR 214.2(f)(9) as specified in this notice. Such an eligible F-1 nonimmigrant student may benefit without having to apply for a new Form I-766, Employment Authorization Document (EAD). To benefit from this notice, the F-1 nonimmigrant student must request the designated school official (DSO) enter the following statement in the remarks field of the student's Student and Exchange Visitor Information System (SEVIS) student record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently working off campus), or the end date of this notice, whichever date comes first].

Must the F-1 nonimmigrant student apply for reinstatement after expiration of this special employment authorization if the student reduces their full course of study?

No. DHS will deem an F-1 nonimmigrant student who receives and comports with the employment authorization permitted under this notice to be engaged in a “full course of study” for the duration of the student's employment authorization, provided that a qualifying undergraduate level F-1 nonimmigrant student remains registered for a minimum of six semester or quarter hours of instruction per academic term, and a qualifying graduate level F-1 nonimmigrant student remains registered for a minimum of three semester or quarter hours of instruction per academic term.²⁹ See 8 CFR 214.2(f)(5)(v) and (f)(6)(i)(F). DHS will not require such students to apply for reinstatement under 8 CFR 214.2(f)(16) if they are otherwise maintaining F-1 nonimmigrant status.

²⁹ Undergraduate F-1 nonimmigrant students enrolled in a term of different duration must register for at least one half of the credit hours normally required under a “full course of study.” See 8 CFR 214.2(f)(6)(i)(B).

Will an F-2 dependent (spouse or minor child) of an F-1 nonimmigrant student covered by this notice be eligible to apply for employment authorization?

No. An F-2 spouse or minor child of an F-1 nonimmigrant student is not authorized to work in the United States and, therefore, may not accept employment under the F-2 nonimmigrant status. See 8 CFR 214.2(f)(15)(i).

Will the suspension of the applicability of the standard student employment requirements apply to an individual who receives an initial F-1 visa and makes an initial entry in the United States after publication of this notice in the Federal Register?

No. The suspension of the applicability of the standard regulatory requirements only applies to those F-1 nonimmigrant students who meet the following conditions:

(1) Are citizens of Syria, regardless of country of birth;

(2) Were lawfully present in the United States in F-1 nonimmigrant status on April 22, 2021 under section 101(a)(15)(F)(i) of the INA, 8 U.S.C. 1101(a)(15)(F)(i);

(3) Are enrolled in an academic institution that is SEVP certified for enrollment of F-1 nonimmigrant students;

(4) Are currently maintaining F-1 nonimmigrant status; and

(5) Are experiencing severe economic hardship as a direct result of the civil unrest in Syria.

An F-1 nonimmigrant student who does not meet all of these requirements is ineligible for the suspension of the applicability of the standard regulatory requirements (even if experiencing severe economic hardship as a direct result of the civil unrest in Syria since March 2011).

Does this notice apply to a continuing F-1 nonimmigrant student who departs the United States after publication of this notice in the Federal Register and who needs to obtain a new F-1 visa before returning to the United States to continue an educational program?

Yes. This notice applies to such a nonimmigrant student, but only if the DSO has properly notated the student's SEVIS record, which will then appear on the student's Form I-20. The normal rules for visa issuance remain applicable to a nonimmigrant who needs to apply for a new F-1 visa in order to continue an educational program in the United States.

Does this notice apply to elementary school, middle school, and high school students in F-1 status?

Yes. However, this notice does not by itself reduce the required course load for private kindergarten through grade 12, or public school grades 9 through 12, F-1 nonimmigrant students. Such Syrian students must maintain the minimum number of hours of class attendance per week prescribed by the academic institution for normal progress toward graduation. See 8 CFR 214.2(f)(6)(i)(E). The suspension of certain regulatory requirements related to employment through this notice is applicable to all eligible F-1 nonimmigrant students regardless of educational level. Thus, eligible F-1 nonimmigrant students from Syria enrolled in elementary, middle school, and high school do benefit from the suspension of the requirement in 8 CFR 214.2(f)(9)(i) that limits on-campus employment to 20 hours per week while school is in session. Nothing in this notice affects the applicability of federal and state labor laws limiting the employment of minors.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 student's on-campus employment to 20 hours per week while school is in session. An eligible nonimmigrant student has authorization to work more than 20 hours per week while school is in session if the DSO has entered the following statement in the remarks field of the SEVIS student record, which will appear on the student's Form I-20:

Approved for more than 20 hours per week of on-campus employment and reduced course load, under the Special Student Relief authorization from [DSO must insert the beginning date of this notice or the beginning date of the student's employment, whichever date is later] until [DSO must insert the student's program end date or the end date of this notice, whichever date comes first].

To obtain on-campus employment authorization, the F-1 nonimmigrant student must demonstrate to the student's DSO that the employment is necessary to avoid severe economic hardship directly resulting from the civil unrest in Syria. A nonimmigrant student authorized by the student's DSO to engage in on-campus employment by means of this notice does not need to file with U.S. Citizenship and Immigration Services (USCIS). The standard rules that permit full-time employment on-campus when school is not in session or during school vacations apply. See 8 CFR 214.2(f)(9)(i).

Will an F-1 nonimmigrant student who receives on-campus employment authorization under this notice have authorization to reduce the normal course load and still maintain the student's F-1 nonimmigrant status?

Yes. DHS will deem an F-1 nonimmigrant student who receives on-campus employment authorization under this notice to be engaged in a “full course of study” for the purpose of maintaining F-1 nonimmigrant student status for the duration of the on-campus employment, if the student satisfies the minimum course load requirement described in this notice. See 8 CFR 214.2(f)(6)(i)(F). However, the authorization to reduce the normal course load is solely for DHS purposes of determining valid F-1 nonimmigrant student status. Nothing in this notice mandates that school officials allow an F-1 nonimmigrant student to take a reduced course load if the reduction would not meet the school's minimum course load requirement for continued enrollment.³⁰

³⁰ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 student covered by this notice, as provided under 8 CFR 214.2(f)(9)(ii)(A), the Secretary is suspending the following regulatory requirements relating to off-campus employment:

(a) The requirement that a student must have been in F-1 status for one full academic year in order to be eligible for off-campus employment;

(b) The requirement that an F-1 nonimmigrant student must demonstrate that acceptance of employment will not interfere with the student's carrying a full course of study;

(c) The requirement that limits an F-1 nonimmigrant student's employment authorization to no more than 20 hours per week of off-campus employment while school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” for purposes of maintaining F-1 nonimmigrant student status for the duration of the student's employment authorization if the student satisfies the minimum course load requirement described in this notice. See 8 CFR 214.2(f)(6)(i)(F). However, the authorization to reduce the normal course load is solely for DHS purposes of determining valid F-1 status. Nothing in this notice mandates that school officials allow an F-1 nonimmigrant student to take reduced course load if such reduced course load would not meet the school's minimum course load requirement.³¹

³¹ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the civil unrest in Syria since March 1, 2011. Filing instructions are located at: http://www.uscis.gov/i-765.

Fee considerations. Submission of a Form I-765 currently requires payment of a $410 fee. An applicant who is unable to pay the fee may submit a completed Form I-912, Request for Fee Waiver, along with the Form I-765 Application for Employment Authorization. See www.uscis.gov/feewaiver. The submission must include an explanation of why USCIS should grant the fee waiver and the reason(s) for the inability to pay, and any evidence to support the reason(s). See 8 CFR 103.7(c).

Supporting documentation. An F-1 nonimmigrant student seeking off-campus employment authorization due to severe economic hardship must demonstrate the following to the DSO:

(1) This employment is necessary to avoid severe economic hardship; and

(2) The hardship is a direct result of the civil unrest in Syria since March 1, 2011.

If the DSO agrees that the F-1 nonimmigrant student should receive such employment authorization, the DSO must recommend application approval to USCIS by entering the following statement in the remarks field of the student's SEVIS record, which will then appear on the student's Form I-20:

Recommended for off-campus employment authorization in excess of 20 hours per week and reduced course load under the Special Student Relief authorization from the date of the USCIS authorization noted on Form I-766 until [DSO must insert the program end date or the end date of this notice, whichever date comes first].

The F-1 nonimmigrant student must then file the properly endorsed Form I-20 and Form I-765, according to the instructions for the Form I-765. The F-1 nonimmigrant student may begin working off campus only upon receipt of the EAD from USCIS.

DSO recommendation. In making a recommendation that a nonimmigrant student be approved for Special Student Relief, the DSO certifies that:

(a) The F-1 nonimmigrant student is in good academic standing and is carrying a “full course of study” ³² at the time of the request for employment authorization;

³² See 8 CFR 214.2(f)(6).

(b) The F-1 nonimmigrant student is a citizen of Syria (regardless of country of birth) and is experiencing severe economic hardship as a direct result of the civil unrest in Syria since March 1, 2011, as documented on the Form I-20;

(c) The F-1 nonimmigrant student has confirmed that the student will comply with the reduced load requirements of 8 CFR 214.2(f)(5)(v) and register for the duration of the authorized employment for a minimum of six semester or quarter hours of instruction per academic term if at the undergraduate level, or for a minimum of three semester or quarter hours of instruction per academic term if the student is at the graduate level; and

(d) The off-campus employment is necessary to alleviate severe economic hardship to the individual as a direct result of the civil unrest in Syria since March 1, 2011.

Processing. To facilitate prompt adjudication of the student's application for off-campus employment authorization under 8 CFR 214.2(f)(9)(ii)(C), the F-1 nonimmigrant student should do both of the following:

(a) Ensure that the application package includes all of the following documents:

(1) A completed Form I-765;

(2) The required fee or properly documented fee waiver request as defined in 8 CFR 103.7(c);

(3) A signed and dated copy of the student's Form I-20 with the appropriate DSO recommendation, as previously described in this notice; and

(b) Send the application in an envelope which is clearly marked on the front of the envelope, bottom right-hand side, with the phrase “SPECIAL STUDENT RELIEF.” Failure to include this notation may result in significant processing delays.

If USCIS approves the student's Form I-765, a USCIS official will send the student an EAD as evidence of the student's employment authorization. The EAD will contain an expiration date that does not exceed the end of the granted temporary relief.

Temporary Protected Status Considerations

Can an F-1 nonimmigrant student apply for TPS and for benefits under this notice at the same time?

Yes. An F-1 nonimmigrant student who has not yet applied for Temporary Protected Status (TPS) or other relief that reduce the student's course load per term and permits an increase number of work hours per week, such as the Special Student Relief,³³ under this notice has two options.

³³ DHS Study in the States, Special Student Relief available at https://studyinthestates.dhs.gov/students/special-student-relief [last visited Mar. 2021].

Under the first option, the nonimmigrant student may file the TPS application according to the instructions in the Federal Register Notice designating Syria for TPS. See 86 FR 14946 (March 19, 2021). All TPS applicants must file a Form I-821, Application for Temporary Protected Status (or submit a Request for a Fee Waiver (Form I-912)). Although not required to do so, if an F-1 nonimmigrant student wants to obtain a new EAD based on the student's TPS application valid through September 30, 2022, and to be eligible for extensions that may be available to EADs with an A-12 or C-19 category code, the student must file Form I-765 and pay the Form I-765 fee (or submit a Request for a Fee Waiver (Form I-912)). After receiving the TPS-related EAD, an F-1 nonimmigrant student may request that the student's DSO make the required entry in SEVIS, issue an updated Form I-20, as described in this notice, and notate that the nonimmigrant student has been authorized to carry a reduced course load and is working pursuant to a TPS-related EAD. So long as the nonimmigrant student maintains the minimum course load described in this notice, does not otherwise violate the student's nonimmigrant status, including as provided under 8 CFR 214.1(g), and maintains the student's TPS, then the student maintains F-1 status and TPS concurrently.

Under the second option, the nonimmigrant student may apply for an EAD under Special Student Relief by filing the Form I-765 with the location specified in the filing instructions. At the same time, the F-1 nonimmigrant student may file a separate TPS application, but must submit the TPS application according to the instructions provided in the Federal Register Notice designating Syria for TPS. Because the nonimmigrant student has already applied for employment authorization under student relief, they are not required to submit the Form I-765 as part of the TPS application. However, some nonimmigrant students may wish to obtain a TPS EAD in light of certain extensions that may be available to EADs with an A-12 or C-19 category code. The nonimmigrant student should check the appropriate box when filling out Form I-821 to request a TPS-related EAD. Again, the nonimmigrant student will be able to maintain compliance requirements for F-1 nonimmigrant student status and TPS.

When a student applies simultaneously for TPS and benefits under this notice, what is the minimum course load requirement while an application for employment authorization is pending?

The F-1 nonimmigrant student must maintain normal course load requirements for a “full course of study” ³⁴ unless or until the nonimmigrant student receives employment authorization under this notice. TPS-related employment authorization, by itself, does not authorize a nonimmigrant student to drop below twelve credit hours, or otherwise applicable minimum requirements (e.g., clock hours for language students). Once approved for Special Student Relief employment authorization, the F-1 nonimmigrant student may drop below twelve credit hours, or otherwise applicable minimum requirements (with a minimum of six semester or quarter hours of instruction per academic term if the student is at the undergraduate level, or a minimum of three semester or quarter hours of instruction per academic term if the student is at the graduate level). See 8 CFR 214.2(f)(5)(v), (f)(6), and (f)(9)(i) and (ii).

³⁴ See 8 CFR 214.2(f)(6).

How does a student who has received a TPS-related employment authorization document then apply for authorization to take a reduced course load under this notice?

There is no further application process if a student has been approved for a TPS-related employment authorization document. The F-1 nonimmigrant student must demonstrate and provide documentation to the DSO of the direct economic hardship resulting from the civil unrest in Syria since March 1, 2011. The DSO will then verify and note this in the student's SEVIS record to enable the F-1 nonimmigrant student with TPS to reduce their course load without any further action or application. No other EAD needs to be issued for the F-1 nonimmigrant student to have employment authorization.

Can a noncitizen who has been granted TPS apply for reinstatement of F-1 nonimmigrant student status after the noncitizen's F-1 nonimmigrant student status lapsed?

Yes. Current regulations permit certain students who fall out of F-1 nonimmigrant student status to apply for reinstatement. See 8 CFR 214.2(f)(16). This provision might apply to a student who worked on a TPS-related EAD or dropped their course load before publication of this notice, and therefore fell out of student status. The student must satisfy the criteria set forth in the student status reinstatement regulations.

How long will this notice remain in effect?

This notice grants temporary relief until September 30, 2022, to eligible F-1 nonimmigrant students. DHS will continue to monitor the situation in Syria. Should the special provisions authorized by this notice need modification or extension, DHS will announce such changes in the Federal Register.

Paperwork Reduction Act (PRA)

An F-1 nonimmigrant student seeking off-campus employment authorization due to severe economic hardship must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows eligible F-1 nonimmigrant students to request employment authorization, work an increased number of hours while the academic institution is in session, and reduce the student's course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro N. Mayorkas,
Secretary, U.S. Department of Homeland Security.

[FR Doc. 2021-08302 Filed 4-21-21; 8:45 am]

BILLING CODE 9111-28-P